DEPARTMENT OF ENERGY

[DE-PS07-02ID14304]

Supporting Industries

AGENCY: Idaho Operations Office, DOE.

ACTION: Notice of availability of financial assistance solicitation.

SUMMARY: The U.S Department of Energy (DOE) Idaho Operations Office (ID) is seeking applications for cost-shared research and development of technologies which will reduce energy consumption, reduce environmental impacts and enhance economic competitiveness of two or more of the following Industry of the Future Sectors: Heat Treating, Forging, Welding, Powder Metals, and Advanced Ceramics.

DATES: The issuance date of Solicitation Number DE-PS07-02ID14304 will be on May 1, 2002. The deadline for receipt of applications will be approximately on June 28, 2002.

ADDRESSES: The solicitation in its full text will be available on the Internet at the following URL address: http://e-center.doe.gov. The Industry Interactive Procurement System (IIPS) provides the medium for disseminating solicitations, receiving financial assistance applications and evaluating the applications in a paperless environment. Completed applications are required to be submitted via IIPS. An IIPS “User Guide for Contractors” can be obtained on the IIPS Homepage and then clicking on the “Help” button. Questions regarding the operation of IIPS may be e-mailed to the IIPS Help Desk at IIPS_HelpDesk@e-center.doe.gov.

FOR FURTHER INFORMATION CONTACT: Seb Klein, Contract Specialist, kleinsm@id.doegov.

SUPPLEMENTARY INFORMATION: The Roadmaps are available at the following URL: http://www.oit.doe.gov/related/related/related.shtml. DOE anticipates making three to five awards each with a duration of four years or less. Award of a cooperative agreement under this solicitation does not commit the Government to fund any follow-on research. Successful applicants will be required to submit quarterly, annual, and final reports to DOE. The statutory authority for the program is the Federal Non-Nuclear Energy Research and Development Act of 1974 (Pub. L. 93-577). The Catalog of Federal Domestic Assistance (CFDA) Number for this program is 81.086.

Issued in Idaho Falls on April 30, 2002.
R.J. Hoyles,
Director, Procurement Services Division.

[FR Doc. 02-11610 Filed 5-8-02; 8:45 am]

BILLING CODE 6450-01-M